DEPARTMENT OF DEFENSE

Office of the Secretary

[Docket ID: DOD-2018-OS-0096]

Proposed Collection; Comment Request

AGENCY: Office of the Under Secretary of Defense for Intelligence, DoD.

ACTION: Information collection notice.

SUMMARY: In compliance with the Paperwork Reduction Act of 1995, the Office of the Under Secretary of Defense for Intelligence announces a proposed public information collection and seeks public comment on the provisions thereof. Comments are invited on whether the proposed collection of information is necessary for the proper performance of the functions of the agency, including whether the information shall have practical utility, the accuracy of the agency's estimate of the burden of the proposed information collection, ways to enhance the quality, utility, and clarity of the information to be collected, and ways to minimize the burden of the information collection on respondents, including through the use of automated collection techniques or other forms of information technology.

DATES: Consideration will be given to all comments received by January 28, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Security Service, Program Integration Office, Project Integration Office Process and Governance Manager, ATTN: Chris Kubricky, Quantico, VA 22134 or call the Program Integration Office at (571)-305-6243.

SUPPLEMENTARY INFORMATION:

Title; Associated Form; and OMB Number: Department of Defense National Industrial Security Program (NISP) Contractor Classification System; DD Form 254; OMB Control Number 0704-0567.

Needs and Uses: This collection is a revision to the collection under OMB Control Number 0704-0567 (DD254) approved in November 2017. Pursuant to 48 CFR, part 27, in conjunction with subpart 4.4 of the Federal Acquisition Regulation, contracting officers shall determine whether access to classified information may be required by a contractor during contract performance. When access to classified information is required, DoD Components shall use the “Contract Security Classification Specification,” DD Form 254, as an attachment to contracts or agreements requiring access to classified information by U.S. contractors. The NISP Contract Classification System (NCCS) will be the new electronic repository for the DD254. It will expedite the processing and distribution of contract classification specifications for contracts requiring access to classified information. NCCS will also provide for workflow processes to share data for: the Facility Clearance Request (FCL), the Request for Approval to Subcontract, and National Interest Determination (NID) which are already approved by the Office of Management and Budget (OMB) control number 0704-0571 for the National Industrial Security System (NISS). Respondents can register for and request access to NCCS at: https://wawf.eb.mil/.

Affected Public: Business or other for profit.

Annual Burden Hours: 37,461.67.

Number of Respondents: 3,211.

Responses per Respondent: 10.

Annual Responses: 32,110.

Average Burden per Response: 70 minutes.

Frequency: On Occasion.

The DD Form 254 is used to identify the classified areas of information involved in a contract and to identify the specific items of information that require protection. DoD Components, non-DoD agencies with formal agreements with DoD for industrial security services, or U.S. contractors under DoD security cognizance in the NISP, provide guidance in the body of the DD Form 254 or its attachments for contracts or other agreements requiring access to classified information.

The respondent is a cleared contractor facility in the NISP under the security cognizance of the Defense Security Service (DSS). Pursuant to security classification guidance of the NISPOM, DoD 5220.22-M, the NISP contractors must provide contract security classification specifications with any contract or agreement that they propose or award. DD Form 254 is the official vehicle for providing this information.

A respondent submits completed DD Forms 254 with any attachments to the applicable subcontractor and to the DoD NISP Cognizant Security Office (i.e., DSS) for evaluation. In the event that the Government Contracting Activity (GCAs) is a foreign government or an activity of the North Atlantic Treaty Organization, a security aspects letter serves as the equivalent of a DD Form 254 to provide security classification guidance. Both U.S. Government and contractor respondents will be required to electronically complete and submit the DD Form 254 with attachments through the NISP Contracts Classification System (NCCS). Those USG respondents that have a legacy electronic 254 system and will have to interface their data into NCCS, in coordination with DoD.

Dated: November 23, 2018.
Shelly E. Finke,
Alternate OSD Federal Register, Liaison Officer, Department of Defense.

[FR Doc. 2018-25941 Filed 11-27-18; 8:45 am]

BILLING CODE 5001-06-P